DEPARTMENT OF HEALTH AND HUMAN SERVICES

Office of the Secretary

Findings of Scientific Misconduct

AGENCY: Office of the Secretary, HHS.

ACTION: Notice.

SUMMARY: Notice is hereby given that the Office of Research Integrity (ORI) and the Acting Assistant Secretary for Health have taken final action in the following case:

Sheila Blackwell, University of Maryland, Baltimore: Based on the report of an investigation conducted by the University of Maryland, Baltimore (UMB Report), the respondent's admission of responsibility, and additional analysis conducted by ORI in its oversight review, the U.S. Public Health Service (PHS) found that Sheila Blackwell, former contractual employee, Department of Pediatrics at UMB, engaged in scientific misconduct in research supported by National Institute of Mental Health (NIMH), National Institutes of Health (NIH), grant 2 R01 MH54983, entitled “Effectiveness of Standard versus Embellished HIV Prevention.”

Specifically, PHS found that Ms. Blackwell engaged in scientific misconduct by fabricating interview records for the Focus on Teens HIV Risk Prevention Program for nine interviews that had not been performed over the period of May through July 2001.

Ms. Blackwell has entered into a Voluntary Exclusion Agreement (Agreement) in which she has voluntarily agreed for a period of three (3) years, beginning on October 30, 2003:

(1) To exclude herself from serving in any advisory capacity to PHS including but not limited to service on any PHS advisory committee, board, and/or peer review committee, or as a consultant; and

(2) That her participation in any PHS-supported research will be conditioned on an appropriate plan of supervision of her duties (Supervision Plan) as follows:

(i) Any institution that submits an application for PHS support for a research project in which Ms. Blackwell's participation is proposed or anticipated must concurrently submit a Supervision Plan to the funding agency for approval; and (ii) any institution using Ms. Blackwell in any capacity in PHS-supported research must submit a Supervision Plan to the funding agency for approval. The Supervision Plan must be designed to ensure the scientific integrity of her research contribution. A copy of the Supervision Plan must also be submitted to ORI by the institution. Ms. Blackwell agreed that she will not participate in any PHS-supported research until the Supervision Plan has been submitted to ORI.

FOR FURTHER INFORMATION CONTACT: Director, Division of Investigative Oversight, Office of Research Integrity, 1101 Wootton Parkway, Suite 750, Rockville, MD 20852, (301) 443-5330.

Chris B. Pascal,
Director, Office of Research Integrity.

[FR Doc. 03-29867 Filed 12-1-03; 8:45 am]

BILLING CODE 4150-31-P